ENVIRONMENTAL PROTECTION AGENCY

[FRL-9935-20-Region 5]

Notice of Issuance of Part 71 Federal Operating Permit to Great Lakes Transmission Limited Partnership

AGENCY: Environmental Protection Agency (EPA).

ACTION: Notice.

SUMMARY: This notice announces that on August 28, 2015, pursuant to title V of the Clean Air Act, the Environmental Protection Agency (EPA) issued a title V permit to operate (title V permit) to Great Lakes Transmission Limited Partnership. This permit authorizes Great Lakes Transmission Limited Partnership to operate a natural gas compressor station at its facility (Facility) in Deer River, Minnesota. The compressor station consists of two stationary natural gas-fired turbines, which in turn drive two natural gas compressors for the Deer River Compressor Station No.4, which is located on the Leech Lake Band of Ojibwe Indian Reservation.

DATES: During the public comment period, which ended June 1, 2015, EPA received comments on the draft title V permit. Therefore, in accordance with 40 CFR 71.11(i)(2), this permit is effective 30 days after service of notice of the decision to issue the permit, October 2, 2015. 40 CFR 71.11(i)(2) provides that the final permit decision becomes effective 30 days after the service of notice of the decision unless a later effective date is specified, review is requested, or no comments requested a change in the draft permit, in which case the permit becomes effective immediately upon issuance. The exceptions noted above to the 30 days after notice of permit issuance date did not apply in this permitting action. EPA received comments on the draft permit from the Leech Lake Band of Ojibwe and the Minnesota Historical Society State Historic Preservation Office during the public comment period, and changes were made to the final permit.

ADDRESSES: The final signed permit is available for public inspection online at http://yosemite.epa.gov/r5/r5ard.nsf/Tribal+Permits!OpenView, or during normal business hours at the following address: EPA, Region 5, 77 West Jackson Boulevard (AR-18J), Chicago, Illinois 60604.

FOR FURTHER INFORMATION CONTACT: Constantine Blathras, Environmental Engineer, EPA, Region 5, 77 W. Jackson Boulevard (AR-18J), Chicago, Illinois 60604, (312) 886-0671, or blathras.constantine@epa.gov.

SUPPLEMENTARY INFORMATION: This supplemental information is organized as follows:

A. What is the background information?

B. What is the purpose of this notice?

A. What Is the background information?

The Deer River Compressor Station No. 4 is owned by Great Lakes Transmission Limited Partnership. Deer River Compressor Station No. 4 consists of two stationary natural gas-fired turbines which, in turn, drive two natural gas compressors. EPA received the permit application on April 25, 2014.

On April 29, 2015, EPA made available for a 30-day public comment a draft Federal title V permit to operate (V-LL-2706100011-14-01) in accordance with the requirements of 40 CFR 71.11(d). This title V permit incorporated all applicable air quality requirements for the Deer River Compressor Station No.4, including the monitoring necessary to ensure compliance with these requirements. EPA received written comments, responded to those comments, finalized the permit and provided copies to the applicant pursuant to 40 CFR 71.11(i).

B. What is the purpose of this notice?

EPA is notifying the public of the issuance of the title V permit to Great Lakes Transmission Limited Partnership on August 28, 2015. Because EPA received comments on the draft title V permit, it is effective 30 days after notice of permit issuance, October 2, 2015, pursuant to 40 CFR 71.11(i)(2).

Dated: September 25, 2015.
Susan Hedman,
Regional Administrator, Region 5.

[FR Doc. 2015-25838 Filed 10-8-15; 8:45 am]

BILLING CODE 6560-50-P